ENVIRONMENTAL PROTECTION AGENCY

[OPP-30119; FRL-6789-7]

Triphenyltin Hydroxide (TPTH); Notice of Final Determination for Termination of the TPTH Special Review

AGENCY: Environmental Protection Agency (EPA).

ACTION: Notice.

SUMMARY: In a Federal Register notice published October 20, 2000, EPA proposed to terminate the special review of the pesticide active ingredient triphenyltin hydroxide (TPTH) based on the determination that the benefits of use outweigh the risks. The Agency solicited public comments for a 30-day period. There were no comments submitted, and the Agency believes that the benefits of TPTH use continue to outweigh the risks. Thus, with this notice, EPA is announcing that it has terminated the TPTH Special Review.

DATES: This decision is effective on August 20, 2001.

FOR FURTHER INFORMATION CONTACT: Wilhelmena Livingston, Special Review and Reregistration Division (7508C), Office of Pesticide Programs, Environmental Protection Agency, 1200 Pennsylvania Ave., NW., Washington, DC 20460; telephone number: (703) 308-8025; fax number: (703) 308-8005; e-mail address: livingston.wilhelmena@epa.gov.

SUPPLEMENTARY INFORMATION:

I. General Information

A. Does this Action Apply to Me?

This action is directed to the public in general. This action may, however, be of interest to those persons who are or may be required to conduct testing of chemical substances under the Federal Food, Drug and Cosmetic Act (FFDCA) or the Federal Insecticide, Fungicide, and Rodenticide Act (FIFRA). This action may be of particular interest to pesticide registrants with registered products which contain TPTH as an active ingredient, or to agricultural producers or mixers, loaders, or applicators using products containing TPTH as an active ingredient. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “ Federal Register—Environmental Documents.” You can also go directly to the Federal Register listings at http://www.epa.gov/fedrgstr/. In addition, related documents for TPTH may be accessed through the Home Page for the Office of Pesticide Programs at http://www.epa.gov/pesticides/reregistration/status.htm .

2. In person. The Agency has established an official record for this action under docket control number OPP-30119. The official record consists of the documents specifically referenced in this action, any public comments received during an applicable comment period,and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Response to Comments Submitted on EPA's Proposed Determination to Terminate Special Review

No comments were received during the 30-day public comment period.

III. EPA's Decision Regarding the Special Review

Special Review is a decisionmaking process designed to help EPA determine whether the Agency should initiate formal procedures, such as involuntary cancellation or suspension of a pesticide registration or the imposition of modified terms and conditions of registration because use of the pesticide may cause unreasonable adverse effects on the environment (40 CFR 154.1(a)). This notice concludes EPA's administrative special review of the risks and benefits of TPTH, which was initiated in the Federal Register notice of January 9, 1985 (50 FR 1107). In the October 20, 2000 Federal Register notice (65 FR 204) (FRL-6496-3), EPA announced its intent to terminate the TPTH Special Review. As stated in that document, based on its risk and benefits assessments, EPA has concluded that the benefits provided from the continued existing uses of TPTH outweigh the risks. There were no comments received in response to the October 20, 2000, proposal to terminate the TPTH Special Review. Accordingly, for the reasons set forth in the October 20, 2000 notice, EPA is announcing that it has terminated the TPTH Special Review.

List of Subjects

Environmental protection, Chemicals, Pesticides and pests.

Dated: July 11, 2001.
Stephen L. Johnson,
Assistant Administrator for Prevention, Pesticides and Toxic Substances.

[FR Doc. 01-18200 Filed 7-19-01; 8:45 am]

BILLING CODE 6560-50-S